DEPARTMENT OF ENERGY

Federal Energy Regulatory Commission

[Docket No. EG04-45-000, et al.]

Equus Power I, L.P., et al.; Electric Rate and Corporate Filings

March 29, 2004.

The following filings have been made with the Commission. The filings are listed in ascending order within each docket classification.

1. Equus Power I, L.P.

[Docket No. EG04-45-000]

Take notice that on March 25, 2004, Equus Power I, L.P., (Equus Power) submitted for filing with the Commission an application for determination of exempt wholesale generator status pursuant to Section 32 of the Public Utility Holding Company Act and Part 365 of the Commission's Regulations.

Comment Date: April 15, 2004.

2. Split Rock Energy LLC

[Docket No. ER00-1857-003]

Take notice that on March 25, 2004, Split Rock Energy LLC (Split Rock), in compliance with the Commission's June 1, 2000 order in Split Rock Energy LLC, in Docket No. ER00-1857-000, that it was no longer affiliated with ALLETE, Inc. dba Minnesota Power.

Comment Date: April 15, 2004.

3. Public Service Company of New Mexico

[Docket No. ER01-615-003]

Take notice that on March 24, 2004, Public Service Company of New Mexico (PNM) tendered for filing an updated market power study, pursuant to the Commission's order in Western Resources, Inc. and Public Service Co. of New Mexico, 94 FERC ¶ 61,050 (2001).

Comment Date: April 14, 2004.

4. California Independent System Operator Corporation

[Docket Nos. ER03-218-005, ER03-219-005, and EC03-81-002]

Take notice that on March 25, 2004, the California Independent System Operator Corporation (ISO) submitted a filing in compliance with the Commission's “Order Granting and Denying Rehearing and Conditionally Accepting Compliance Filing and Granting Motion to Withdraw Elements of the Compliance Filing,” issued in Docket Nos. ER03-218-004, ER03-219-004 and EC03-81-001 on November 17, 2003, 105 FERC ¶ 61,207.

ISO states that it has served copies of this filing upon all entities that are on the official service list for the dockets.

Comment Date: April 15, 2004.

5. Conjunction, LLC

[Docket No. ER03-452-002]

Take notice that on March 24, 2004, Conjunction LLC (Conjunction), on behalf of Empire Connection LLC submitted a report on the open season that it recently held in February 2004, pursuant to the Commission's order issued May 21, 2003, Conjunction LLC, 103 FERC ¶ 61,198 at P17 (2003).

Comment Date: April 14, 2004.

6. Central Maine Power Company

[Docket No. ER03-1307-001]

Please take notice that on March 24, 2004, Central Maine Power Company (CMP) tendered for filing an Executed Interconnection Agreement entered into with Androscoggin Reservoir Company as part of a negotiated settlement. CMP states that service under the Interconnection Agreement will be provided pursuant to CMP's Open Access Transmission Tariff, designated CMP FERC Electric Tariff, Fifth Revised Volume No. 3, First Revised Service Agreement Number 193.

Comment Date: April 14, 2004.

7. Deseret Generation & Transmission Co-operative, Inc.

[Docket No. ER04-221-002]

Take notice that on March 23, 2004, Deseret Generation & Transmission Co-operative, Inc. (Deseret) submitted a filing detailing a Supplemental 2003 Rebate to each of its six member cooperatives under Service Agreement Nos. 1 through 6 of FERC ElectricTariff, Original Volume No. 1. Deseret requests an effective date of May 12, 2004.

Deseret states that copy of this filing has been provided to each of Deseret's members.

Comment Date: April 13, 2004.

8. PJM Interconnection, L.L.C.

[Docket No. ER04-378-001]

Take notice that on March 25, 2004, PJM Interconnection, L.L.C. (PJM) submitted for filing a substitute construction service agreement among PJM, U.S. General Services Administration, White Oak Federal Research Center, and Potomac Electric Power Company in compliance with the Commission's order dated March 3, 2004 in Docket No. ER04-378-000.

PJM states that copies of this filing were served upon persons designated on the official service list compiled by the Secretary in this proceeding and the parties to the agreements.

Comment Date: April 15, 2004.

9. Tampa Electric Company

[Docket No. ER04-436-000]

Take notice that on March 24, 2004, Tampa Electric Company (Tampa Electric) withdrew the ministerial filing of tariff sheets under its open access transmission tariff (OATT) that it had submitted on January 20, 2004, in compliance with the Commission's Order No. 2003. Tampa Electric states that it will instead make a completely new ministerial filing of conforming tariff sheets under the Commission's Order No. 2003-A.

Tampa Electric states that copies of the filing have been served on the customers under Tampa Electric's OATT and the Florida Public Service Commission.

Comment Date: April 14, 2004.

10. Central Vermont Public Service Corporation

[Docket No. ER04-515-002]

Take notice that on March 23, 2004 Central Vermont Public Service Corporation (Central Vermont) filed an executed version of Second Substitute Original Service Agreement No. 45, a Network Integration Transmission Service Agreement and Network Operating Agreement with the Public Service Company of New Hampshire (PSNH) under Central Vermont's FERC Electric Tariff, Second Revised Volume No. 7 (OATT). Central Vermont requests an effective date of January 1, 2004.

Central Vermont states that copies of the filing were served upon the PSNH and the Vermont Public Service Board.

Comment Date: April 13, 2004.

11. Florida Power & Light Company

[Docket No. ER04-520-002]

Take notice that on March 23, 2004, Florida Power & Light Company (FPL),pursuant to a deficiency letter issued March 4, 2004 in Docket Nos. ER04-520-000 and 001, submitted an amendment to its filings submitted on February 2, 2004 and February 4, 2004 in Docket Nos. ER04-520-000 and 001.

Comment Date: April 14, 2004.

12. Total Gas & Electric, (PA) Inc.

[Docket No. ER04-639-000]

Take notice that on March 24, 2004, Total Gas & Electric, Inc. (Total) withdrew its Notice of Cancellation of its Rate Schedule FERC No. 1, which had previously been filed on March 11, 2004.

Comment Date: April 14, 2004.

13. Total Gas & Electric, Inc.

[Docket No. ER04-640-000]

Take notice that on March 24, 2004, Total Gas & Electric, Inc. (Total) withdrew its Notice of Cancellation of its Rate Schedule FERC No. 1, which had previously been filed on March 11, 2004.

Comment Date: April 14, 2004.

14. Public Service Company of New Mexico

[Docket No. ER04-668-000]

Take notice that on March 24, 2004, Public Service Company of New Mexico (PNM) tendered for filing, pursuant to Section 205 of the Federal Power Act, 16 USC 824d (2000), proposed revisions to its FERC Electric Tariff, First Revised Volume No. 3 (Tariff). PNM states that the proposed tariff revisions: (1) Address the termination of PNM's proposed merger with Western Resources, Inc.; (2) clarify the provision governing sales by PNM to affiliates; (3) remove language requiring service agreements under the Tariff to be filed with the Commission; (4) reflect a change in the bank to which payments for service under the Tariff are to be directed; and (5) include a Mobile-Sierra provision in the form of service agreement. In addition, PNM states that it is incorporating into the Tariff the Commission's Market Behavior Rules, as required by the Commission's November 17, 2003 order in Investigation of Terms and Conditions of Public Utility Market-Based Rate Authorizations, 105 FERC ¶ 61,218 (2003).

Comment Date: April 14, 2004.

15. Niagara Mohawk Power Corporation, A National Grid Company

[Docket No. ER04-669-000]

Take notice that on March 24, 2004, Niagara Mohawk Power Corporation, a National Grid Company (Niagara Mohawk) tendered for filing an Amendment of Niagara Mohawk's Rate Schedule FERC No. 204. Niagara states that the filing is required to terminate transmission service to the Power Authority of the State of New York (NYPA) for deliveries to the Village of Bergen, New York, as requested by the Village of Bergen with the consent of NYPA. Niagara Mohawk requests an effective date of March 1, 2004.

Niagara Mohawk states that it served copies of this filing upon the customer receiving service under Rate Schedule No. 204, the Power Authority of the State of New York, and its customer, the Village of Bergen, New York, as well as upon the New York Independent System Operator, and the New York Public Service Commission.

Comment Date: April 14, 2004.

16. New England Power Pool

[Docket No. ER04-670-000]

Take notice that on March 24, 2004, the New England Power Pool (NEPOOL) Participants Committee and ISO New England Inc. (the ISO) jointly filed the Objective Capability (OC) values established for the 2004/2005 NEPOOL Power Year. The joint filers state that they submitted this filing as directed by the Commission in Paragraph 23 of the April 30, 2003 order issued in Docket No. EL03-25, New England Power Pool, 103 FERC ¶ 61,093 and Section 205 of the Federal Power Act, 16 U.S.C. 824(d). NEPOOL Participants Committee and the ISO seek a June 1, 2004 effective date for the 2004/2005 Power Year OC Values and request that the Commission expedite its consideration of the filing and issue an order accepting it by or before May 1, 2004.

NEPOOL Participants committee states that copies of these materials were sent to the NEPOOL Participants and the New England state governors and regulatory commissions.

Comment Date: April 7, 2004.

17. PPL Distributed Generation, LLC

[Docket No. ER04-671-000]

On March 24, 2004, PPL Distributed Generation, LLC (PPL Distributed Generation) submitted for filing an application for authority to sell electric energy, capacity and certain ancillary services at market-based rates and to resell transmission rights and associated ancillary services. PPL Distributed Generation requests an effective date of May 18, 2004.

Comment Date: April 14, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-744 Filed 4-5-04; 8:45 am]

BILLING CODE 6717-01-P